DEPARTMENT OF THE INTERIOR

Fish and Wildlife Service

Final Comprehensive Conservation Plan and Environmental Assessment for the Agassiz National Wildlife Refuge, Marshall County, MN

AGENCY: Fish and Wildlife Service, Interior.

ACTION: Notice of availability.

SUMMARY: The U.S. Fish and Wildlife Service announces that the Final Comprehensive Conservation Plan (CCP) and Environmental Assessment (EA) is available for Agassiz NWR, Minnesota.

The CCP was prepared pursuant to the National Wildlife Refuge System Administration Act of 1966, as amended by the National Wildlife Refuge System Improvement Act of 1997, and the National Environmental Policy Act of 1969. Goals and objectives in the CCP describe how the agency intends to manage the refuge over the next 15 years.

ADDRESSES: Copies of the Final CCP are available on compact disk or hard copy. You may access and download a copy via the planning Web site at http://www.fws.gov/midwest/planning/agassiz/index.html or you may obtain a copy by writing to the following address: U.S. Fish and Wildlife Service, Agassiz National Wildlife Refuge, 22996 290th Street NE., Middle River, Minnesota 56737-9754.

FOR FURTHER INFORMATION CONTACT: Margaret Anderson at (218) 449-4115.

SUPPLEMENTARY INFORMATION: The Agassiz NWR, established in 1937, is located in the northwest corner of Minnesota at the juncture of the northern boreal forest, the eastern deciduous forest, and the tallgrass prairie. The Refuge's 61,500 acres are a key breeding ground for 17 species of ducks, as well as an important migration rest stop for waterfowl, but it is also noted for gray wolves, moose, and nesting Bald Eagles.

The National Wildlife Refuge System Administration Act of 1966, as amended by the National Wildlife Refuge System Improvement Act of 1997 (16 U.S.C. 668dd-668ee et seq.), requires a CCP. The purpose in developing CCPs is to provide refuge managers with a 15-year strategy for achieving refuge purposes and contributing toward the mission of the National Wildlife Refuge System, consistent with sound principles of fish and wildlife science, conservation, legal mandates, and Service policies. In addition to outlining broad management direction for conserving wildlife and their habitats, the CCPs identify wildlife-dependent recreational opportunities available to the public, including opportunities for hunting, fishing, wildlife observation and photography, and environmental education and interpretation. We will review and update these CCPs at least every 15 years.

A major focus of the refuge for the next 15 years will be to manage a large area of uplands as a grassland/shrubland matrix. This action will increase critical native habitats that have declined locally and in Minnesota over the past century, such as prairie grasslands, sedge meadow, and bur oak/savanna. Simultaneously, the Refuge will aim to reduce the area now taken over by lowland shrub, aspen/mixed hardwood, and cattail or phragmites-dominated marsh, which either have lower intrinsic value for wildlife or have simply become too abundant. In turn, these habitat shifts will help those wildlife species associated with the rarer habitats.

The Refuge proposes to restore a more natural sinuosity on two interior watercourses by lowering water levels in three pools. The loss of conifers in the Wilderness Area, possibly due to high water conditions, will also be studied.

Expanded public use opportunities include enhancing winter wildlife viewing with a designated, un-groomed cross-country/snowshoe/walking trail. New hunting opportunities to be provided include: archery/deer, muzzleloader/deer, and ruffed grouse hunting during and after the firearms/deer season; and a “youth” waterfowl hunt in the Farmes Pool area in conjunction with the state youth waterfowl hunt season and regulations.

Dated: June 21, 2005.
Robyn Thorson,
Regional Director, U.S. Fish and Wildlife Service, Fort Snelling, Minnesota.

[FR Doc. 05-16991 Filed 8-25-05; 8:45 am]

BILLING CODE 4310-55-P